DEPARTMENT OF COMMERCE

National Telecommunications and Information Administration

First Responder Network Authority Board Meetings

AGENCY: National Telecommunications and Information Administration, U.S. Department of Commerce.

ACTION: Notice of Open Public Meetings.

SUMMARY: The Board of the First Responder Network Authority (FirstNet) will convene an open public meeting of the Board on March 11, 2014, preceded by meetings of the Board Committees on March 10, 2014.

DATES: On March 10, 2014 between 2:00 p.m. and 6:00 p.m. Eastern Daylight Time there will be sequential meetings of FirstNet's four Board Committees: (1) Planning and Technology; (2) Governance and Personnel; (3) Finance; and (4) Outreach. The full FirstNet Board will hold a meeting on March 11, 2014, between 9:00 a.m. and 11:30 a.m. Eastern Daylight Time.

ADDRESSES: Board members will meet at the NYC Police Headquarters (2nd Floor Press Room), One Police Plaza, New York, NY 10038.

FOR FURTHER INFORMATION CONTACT: Uzoma Onyeije, Secretary, FirstNet, U.S. Department of Commerce, 1401 Constitution Avenue NW., Washington, DC 20230; telephone: (202) 482-0016; email: uzoma@firstnet.gov. Please direct media inquiries to NTIA's Office of Public Affairs, (202) 482-7002.

SUPPLEMENTARY INFORMATION: This notice informs the public that the Board of the First Responder Network Authority (FirstNet) will convene an open public meeting of the Board on March 11, 2014, preceded by meetings of the Board Committees on March 10, 2014.

Background: The Middle Class Tax Relief and Job Creation Act of 2012 (Act), Public Law 112-96, 126 Stat. 156 (2012), created FirstNet as an independent authority within NTIA. The Act directs FirstNet to establish a single nationwide, interoperable public safety broadband network. The FirstNet Board is responsible for making strategic decisions regarding FirstNet's operations. The FirstNet Board held its first public meeting on September 25, 2012.

Matters to be Considered: NTIA will post detailed agendas of each meeting on its Web site, http://www.ntia.doc.gov/category/firstnet prior to the meetings. The agenda topics are subject to change. Please note that the subjects that will be discussed by the Committees involve commercial and financial information that is privileged or confidential, personnel matters, and other legal matters affecting FirstNet. As such, the Committee chairs will call for a vote to close the meetings and all matters of substance will be discussed by the Committees in closed session pursuant to 47 U.S.C. 1424(e)(2). The Board meeting will also involve a closed session, pursuant to 47 U.S.C. 1424(e)(2), following a series of presentations.

Times and Dates of March, 2014 Meetings: On March 10, 2014, between 2:00 p.m. and 6:00 p.m. Eastern Daylight Time there will be sequential meetings of FirstNet's four committees. The full FirstNet Board meeting will be held on March 11, 2014, between 9:00 a.m. and 11:30 a.m. Eastern Daylight Time.

Times and Dates of Future Meetings: Future meetings will be held on June 3, 2014 between 9:00 a.m. and 11:30 a.m. Mountain Daylight Time at the Westin Hotel, 10600 Westminster Boulevard, Westminster, Colorado in conjunction with the Public Safety Communications Research (PSCR) Conference; on August 6, 2014, between 9:00 a.m. and 11:30 a.m. Central Daylight Time in a location to be determined in conjunction with the APCO Annual Conference in New Orleans, Louisiana; and on October 30, 2014, between 9:00 a.m. and 11:30 a.m. Eastern Daylight Time at the FirstNet Headquarters in Reston, Virginia. On the day prior to each Board meeting in 2014, the four Board committees will meet in the same location at the next day's Board meeting between 2 p.m. and 6 p.m. to conduct sequential meetings. At a later date, additional information on these meetings will be available on the NTIA Web site, http://www.ntia.doc.gov/category/firstnet.

Place: The March 11 Board meeting and the March 10 Committee meetings will be held at the NYC Police Headquarters (2nd Floor Press Room), One Police Plaza, New York, NY 10038.

Other Information: These meetings are open to the public and press. Members of the public wishing to attend the meetings in person will be directed to an auditorium where they can observe the meeting by video. For access to the meetings, valid, government-issued photo identification may be requested for security reasons. Due to security requirements and to facilitate entry into the FirstNet Headquarters on October 30, 2014, U.S. nationals must present valid, government-issued photo identification upon arrival. Foreign nationals must contact Uzoma Onyeije at (202) 482-0016 or uzoma@firstnet.gov at least five (5) business days prior to the meeting to provide the necessary clearance information, and must present valid, government-issued photo identification upon arrival.

The meetings are accessible to people with disabilities. Individuals requiring accommodations, such as sign language interpretation or other ancillary aids, are asked to notify Uzoma Onyeije, Secretary, FirstNet, at (202) 482-0016 or uzoma@firstnet.gov at least five (5) business days before the meeting.

The meetings will also be webcast. Please refer to NTIA's Web site at http://www.ntia.doc.gov/category/firstnet for webcast instructions and other information. If you have technical questions regarding the webcast, please contact Charles Franz at cfranz@ntia.doc.gov. Records: NTIA maintains records of all Board proceedings. Board minutes will be available at http://www.ntia.doc.gov/category/firstnet.

Dated: February 24, 2014.
Kathy D. Smith,
Chief Counsel.

[FR Doc. 2014-04381 Filed 2-27-14; 8:45 am]

BILLING CODE 3510-60-P